DEPARTMENT OF LABOR

Bureau of Labor Statistics

Proposed collection, comment request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed revision of the “The Consumer Expenditure Surveys: The Quarterly Interview and the Diary.” A copy of the proposed information collection request (ICR) can be obtained by contacting the individual listed below in the ADDRESSES section of this notice.

DATES: Written comments must be submitted to the office listed in the ADDRESSES section of this notice on or before November 21, 2006.

ADDRESSES: Send comments to Amy A. Hobby, BLS Clearance Officer, Division of Management Systems, Bureau of Labor Statistics, Room 4080, 2 Massachusetts Avenue, NE., Washington, DC 20212, 202-691-7628. (This is not a toll free number.)

FOR FURTHER INFORMATION CONTACT: Amy A. Hobby, BLS Clearance Officer, 202-691-7628. (See Addresses section.)

SUPPLEMENTARY INFORMATION:

I. Background

The Consumer Expenditure (CE) Surveys collect data on consumer expenditures, demographic information, and related data needed by the Consumer Price Index (CPI) and other public and private data users. The continuing surveys provide a constant measurement of changes in consumer expenditure patterns for economic analysis and to obtain data for future CPI revisions. The CE Surveys have been ongoing since 1979.

The data from the CE Surveys are used (1) for CPI revisions, (2) to provide a continuous flow of data on income and expenditure patterns for use in economic analysis and policy formulation, and (3) to provide a flexible consumer survey vehicle that is available for use by other Federal Government agencies. Public and private users of price statistics, including Congress and the economic policymaking agencies of the Executive branch, rely on data collected in the CPI in their day-to-day activities. Hence, data users and policymakers widely accept the need to improve the process used for revising the CPI. If the CE Surveys were not conducted on a continuing basis, current information necessary for more timely, as well as more accurate, updating of the CPI would not be available. In addition, data would not be available to respond to the continuing demand from the public and private sectors for current information on consumer spending.

In the Quarterly Interview Survey, each consumer unit (CU) in the sample is interviewed every three months over five calendar quarters. The sample for each quarter is divided into three panels, with CUs being interviewed every three months in the same panel of every quarter. The Quarterly Interview Survey is designed to collect data on the types of expenditures that respondents can be expected to recall for a period of three months or longer. In general the expenses reported in the Interview Survey are either relatively large, such as property, automobiles, or major appliances, or are expenses which occur on a fairly regular basis, such as rent, utility bills, or insurance premiums.

The Diary (or recordkeeping) Survey is completed at home by the respondent family for two consecutive one-week periods. The primary objective of the Diary Survey is to obtain expenditure data on small, frequently purchased items which normally are difficult to recall over longer periods of time.

II. Current Action

Office of Management and Budget clearance is being sought for the “The Consumer Expenditure Surveys: The Quarterly Interview and the Diary.”

The Consumer Expenditure Quarterly Interview Survey has recently undergone a thorough review. The proposed changes from this review fall into two major categories: streamlining the current questions in several sections and updating several questions and sections to reflect the current marketplace.

In the streamlining category, the BLS deleted or collapsed obsolete questions. Examples of deleted or collapsed questions include: making refrigerators and freezers one item code rather than two codes in all applicable sections, adding screener questions for some miscellaneous items which reduces the need to ask about each individual item, and regrouping questions about expenditures on food and beverages so fewer questions are asked of the respondent. In addition, the BLS, restructured how expenditures for telephone services and utilities are collected making the collection process more efficient and less burdensome on the respondent.

To keep the survey current, question wording changed and new items were added. Examples of new items added are Voice Over IP services, vacation clubs, changes in premiums for Medicare Part D, interest only mortgages, and reverse mortgages. Question wording also was changed in some sections to collect additional data for some items. Examples of changes to question wording include more detailed information for timeshare properties; questions on installation and set-up charges included with the purchase of televisions, home theater, and audio equipment; and whether, in select Primary Sampling Units (PSUs), a rental property is under rent control. These changes were made to keep the survey current with products and services available in the marketplace and to provide better data for analytical purposes.

A full list of the proposed changes to the Quarterly Interview Survey is available upon request. There are no changes to the Diary Survey for 2007.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Revision of a currently approved collection.

Agency: Bureau of Labor Statistics.

Title: The Consumer Expenditure Surveys: The Quarterly Interview and the Diary.

OMB Number: 1220-0050.

Affected Public: Individuals or households.

Form | Total respondents | Frequency | Total responses | Average time per response | Estimated total burden
CE Quarterly Interview CAPI Instrument | 8,825 | 4 | 35,300 | 65 | 38,242
CE Quarterly Interview Reinterview CAPI Instrument | 4,000 | 1 | 4,000 | 10 | 667
CE Diary: Household Questionnaire CAPI Instrument | 7,050 | 3 | 21,150 | 25 | 8,813
CE: Diary CE-801, Record of Your Daily Expenses | 7,050 | 2 | 14,100 | 105 | 24,675
CE Diary Reinterview CAPI Instrument | 1,300 | 1 | 1,300 | 10 | 217
Totals |  |  | 75,850 |  | 72,614

Total Burden Cost (capital/startup): $0.

Total Burden Cost (operating/maintenance): $0.

Comments submitted in response to this notice will be summarized and/or included in the request for Office of Management and Budget approval of the information collection request; they also will become a matter of public record.

Signed at Washington, DC, this 15th day of September 2006.
Kimberley Hill,
Acting Chief, Division of Management Systems, Bureau of Labor Statistics.

[FR Doc. 06-8059 Filed 9-21-06; 8:45 am]

BILLING CODE 4510-24-P